DEPARTMENT OF TRANSPORTATION

Federal Transit Administration

49 CFR Part 675

[Docket No. FTA-2023-0018]

RIN 2132-AB46

Transit Worker Hours of Service and Fatigue Risk Management Virtual Listening Session

AGENCY: Federal Transit Administration (FTA), Department of Transportation (DOT).

ACTION: Proposed rule; public meeting.

SUMMARY: The Federal Transit Administration (FTA) will hold a virtual public listening session concerning the topics of hours of service and fatigue risk management for transit workers on December 5, 2023. On October 30, 2023, FTA published an Advance Notice of Proposed Rulemaking (ANPRM) seeking public input on those topics. The virtual listening session will allow all interested persons an opportunity to present comments, views, and relevant research on those topics in addition to providing written comments to the docket. A transcript will be placed in the rulemaking docket for public inspection.

DATES: The webinar will be held on December 5, 2023, from 2:30 p.m. to 3:45 p.m. ET.

ADDRESSES: The listening session will be held virtually. Interested parties should register in advance at https://usdot.zoomgov.com/j/1608968545?pwd=c0tVNlJ3OTRPUmxYTHN4STFZczNYQT09.

Access information and codes will be provided to those groups and interested members of the public who register for the event. The total number of participants in the virtual listening session will be limited to the maximum allowed by the live webcast platform.

FOR FURTHER INFORMATION CONTACT: For information on the listening session, contact Valerie Beck, Office of Transit Safety and Oversight, FTA, telephone at (202) 366-9178 or valerie.beck@dot.gov. Office hours are from 7:30 a.m. to 4:00 p.m., Monday through Friday, except Federal holidays.

SUPPLEMENTARY INFORMATION:

I. Background

On October 30, 2023, FTA published in the Federal Register (Docket No. FTA-2023-0018, 88 FR 74107) an Advance Notice of Proposed Rulemaking (ANPRM) seeking public input in two areas: (1) hours of service; and (2) fatigue risk management programs. At present, there are no Federal minimum standards for hours of service and fatigue risk management programs in the transit industry. FTA held an in-person listening session on October 8, 2023, in Orlando, Florida. The virtual listening session will allow additional interested persons to present comments, views, and relevant research on those topics. FTA seeks information to better understand current industry practices, priorities, requirements, and the costs and benefits of Federal requirements.

II. Meeting Participation

The listening session is open to the public.

III. Registration

The session will be held virtually. Interested parties should register in advance at https://usdot.zoomgov.com/j/1608968545?pwd=c0tVNlJ3OTRPUmxYTHN4STFZczNYQT09.

(Authority: 49 U.S.C. 5329; 49 CFR 1.91)

Joseph P. DeLorenzo,
Associate Administrator for Transit Safety and Oversight.

[FR Doc. 2023-25052 Filed 11-13-23; 8:45 am]

BILLING CODE 4910-57-P